DEPARTMENT OF HOMELAND SECURITY

Transportation Security Administration

Intent To Request Extension From OMB of One Current Public Collection of Information: Flight Crew Self-Defense Training—Registration and Evaluation

AGENCY: Transportation Security Administration, DHS.

ACTION: 60-Day notice.

SUMMARY: The Transportation Security Administration (TSA) invites public comment on one currently approved Information Collection Request (ICR), Office of Management and Budget (OMB) control number 1652-0028, abstracted below, that we will submit to OMB for extension in compliance with the Paperwork Reduction Act. The ICR describes the nature of the information collection and its expected burden. The collection involves requesting information from flight and cabin crew members of air carriers to verify employment status to confirm eligibility to participate in voluntary advanced self-defense training provided by TSA. Each crew member will also be required to complete an electronic Injury Waiver Form. Additionally, each participant is asked to complete an anonymous course evaluation at the conclusion of the training.

DATES: Send your comments by July 2, 2021.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0028, Flight Crew Self-Defense Training—Registration and Evaluation. TSA is seeking an extension of the ICR, currently approved under OMB control number 1652-0028, to continue compliance with a statutory mandate. Under 49 U.S.C. 44918(b), TSA is required to develop and provide a voluntary advanced self-defense training program for flight and cabin crew members of air carriers providing scheduled passenger air transportation.

TSA must collect specific information to provide the program to eligible participants, as well as assess training quality. This information includes limited biographical information from flight and cabin crew members to confirm their eligibility to participate in this training. TSA uses the information to confirm the eligibility of the participant by contacting the participant's employer.

TSA collects the following information at the time of registration online: name of the crew member, airline affiliation, position, crew member airline identification (ID) number, crew member contact information (home mailing address, home telephone number and/or email address), and the city and state of the TSA Law Enforcement/Federal Air Marshals Service field office where the course will be taken. Upon attending class, crew members are asked to show ID to verify their identity against registration records and to sign the class attendance roster.

In addition, TSA asks each crew member to complete an Injury Waiver Form during the registration process, or before the training is conducted. The Injury Waiver Form requests the employee's airline, airline ID number, signature, and date, and is intended to limit any liability to TSA or its facilities should a crew member become injured during the training.

TSA also asks trainees to complete a voluntary evaluation of the training upon completion of the course. Participants may assess the training quality and provide anonymous and voluntary comments by clicking on the electronic feedback link located on the registration site.

The estimated number of annual respondents is 3,500 and estimated annual burden is 350 hours. TSA estimates the online registration requires five (5) minutes and the injury waiver and class roster sign-in process requires one (1) minute per crew member. This amounts to 350 hours [(3,500 crew members × 6 minutes)]. Although using the course feedback tab is strictly voluntary, TSA estimates ten (10) minutes per crew member for those who complete the evaluation, and 10 crew members will complete the evaluation each year for a total of 1.67 hours (10 crew members × 10 minutes). TSA estimates the total annual hours for this information collection to be 361.67 (350 +1.67).

Dated: April 28, 2021.
Christina A. Walsh,
TSA Paperwork Reduction Act Officer, Information Technology.

[FR Doc. 2021-09227 Filed 4-30-21; 8:45 am]

BILLING CODE 9110-05-P